DEPARTMENT OF HEALTH AND HUMAN SERVICES

Indian Health Service

Request for Public Comment: 30-Day Proposed Information Collection: Application for Participation in the IHS Scholarship Program

AGENCY: Indian Health Service, HHS.

ACTION: Notice.

Note: The purpose of this second announcement is to provide another opportunity for public comment. The previous Federal Register notice was published on December 31, 2009, FR Doc. E9-30947.

SUMMARY: In compliance with Section 3506(c)(2)(A) of the Paperwork Reduction Act of 1995 which requires a 30-day advance opportunity for public comment on the proposed information collection project, the Indian Health Service (IHS) has submitted to the Office of Management and Budget (OMB) a request to review and approve the information collection listed below. This proposed information collection project was previously published in the Federal Register (74 FR 36714) on July 24, 2009 and allowed 60 days for public comment. No public comment was received in response to the notice. The purpose of this notice is to allow 30 days for public comment to be submitted directly to OMB.

Proposed Collection: Title: 0917-0006, “Application for Participation in the IHS Scholarship Program.” Type of Information Collection Request: Previously Approved Collection (Form changes and additions). Form Number(s): IHS-856, 856-2 through 856-24, IHS-815, IHS-816, IHS-817, and IHS-818. Reporting formats are contained in an IHS Scholarship Program application booklet. Need and Use of Information Collection: The IHS Scholarship Branch needs this information for program administration and uses the information to solicit, process, and award IHS Pre-graduate, Preparatory, and/or Health Professions Scholarship grants and monitor the academic performance of awardees, to place awardees at payback sites, and for awardees to request additional program information. The IHS Scholarship Program is streamlining the application to reduce the time needed by applicants to complete and provide the information and plans on using information technology to make the application electronically available on the Internet. Affected Public: Individuals, not-for-profit institutions and State, local or Tribal Government. Type of Respondents: Students pursuing health care professions.

The table below provides: Types of data collection instruments, Estimated number of respondents, Number of responses per respondent, Annual number of responses, Average burden hour per response, and Total annual burden hour(s).

Data collection instrument(s) | Number of respondents | Responses per respondent | Total annual response | Burden hour per response* | Annual burden hours
Scholarship Application (IHS-856) | 1,500 | 1 | 1,500 | 1.00 (60 min) | 1,500
Application Checklist (IHS-856-2) | 1,500 | 1 | 1500 | 0.13 (8 min) | 200
Faculty/Employer Evaluation (IHS-856-3) | 1,500 | 2 | 3,000 | 0.83 (50 min) | 2,500
Narrative Statements (IHS-856-4) | 1,500 | 1 | 1,500 | 0.75 (45 min) | 1,125
Delinquent Federal Debt (IHS-856-5) | 1,500 | 1 | 1,500 | 0.13 (8 min) | 200
Course Curriculum Verification (IHS-856-6) | 1,500 | 1 | 1,500 | 0.70 (42 min) | 1,050
Verification of Acceptance (IHS-856-7) | 400 | 1 | 400 | 0.13 (8 min) | 53
Recipient's Initial Program Progress Report (IHS-856-8) | 400 | 1 | 400 | 0.13 (8 min) | 53
Notification of Academic Problem (IHS-856-9) | 50 | 1 | 50 | 0.13 (8 min) | 7
Change of Status (IHS-856-10) | 50 | 1 | 50 | 0.45 (25 min) | 21
Request for Approval of Deferment (IHS-856-11) | 50 | 1 | 50 | 0.13 (8 min) | 7
Preferred Placement (IHS-856-12) | 200 | 1 | 200 | 0.75 (45 min) | 150
Notice of Impending Graduation (IHS-856-13) | 200 | 1 | 200 | 0.17 (10 min) | 33
Notification of Deferment Program (IHS-856-14) | 50 | 1 | 50 | 0.13 (8 min) | 7
Placement Update (IHS-856-15) | 200 | 1 | 200 | 0.18 (11 min) | 37
Annual Status Report (IHS-856-16) | 200 | 1 | 200 | 0.25 (15 min) | 50
Extern Site Preference Request (IHS-856-17) | 125 | 1 | 125 | 0.13 (8 min) | 17
Request for Extern Travel Reimbursement (IHS-856-18) | 125 | 1 | 125 | 0.10 (6 min) | 13
Lost Stipend Checks (IHS-856-19) | 50 | 1 | 50 | 0.13 (8 min) | 7
Request for Tutorial Assistance (IHS-856-20) | 150 | 1 | 150 | 0.13 (8 min) | 20
Summer School Request (IHS-856-21) | 75 | 1 | 75 | 0.10 (6 min) | 8
Change of Name or Address (IHS-856-22) | 50 | 1 | 50 | 0.13 (8 min) | 7
Request for Credit Validation (IHS-856-23) | 30 | 1 | 30 | 0.10 (6 min) | 3
Faculty/Advisor Evaluation (IHS-856-24) | 1,500 | 2 | 3,000 | 0.83 (50 min) | 2,500
Acknowledgment Card (IHS-815) | 1,500 | 1 | 1,500 | 0.03 (2 min) | 50
Address Change Notice (IHS-816) | 50 | 1 | 50 | 0.02 (1 min) | 1
Scholarship Program Agreement (IHS-817) | 175 | 1 | 175 | 0.05 (3 min) | 9
Health Professions Contract (IHS-818) | 225 | 1 | 225 | 0.05 (3 min) | 11
Total |  |  | 17,855 |  | 9,639
* For ease of understanding, burden hours are also provided in actual minutes.

There is no direct cost to respondents other than their time to voluntarily complete the forms and submit them for consideration. The estimated cost in time to respondents, as a group, is $99,355.00 (9639 burden hours × 2009 GS-3 base pay rate = $10.31 per burden hour). This total dollar amount is based upon the number of burden hours per data collection instrument, rounded to the nearest dollar.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time to: Office of Management and Budget, Office of Regulatory Affairs, Attention: Desk Officer for IHS, New Executive Office Building, Room 10235, Washington, DC 20503.

Send Comments and Requests for Further Information: To request more information on the proposed collection or to obtain a copy of the data collection instrument(s) and/or instruction(s) contact: Mr. Hershel Gorham, IHS Reports Clearance Officer, 801 Thompson Avenue, TMP, Suite 450, Rockville, MD 20852, call non-toll free (301) 443-5932; send via facsimile to (301) 443-9879; or send your e-mail requests, comments, and return address to: hershel.gorham@ihs.gov.

Comment Due Date: Comments regarding this information collection are best assured of having full effect if received within 30 days of the date of this publication.

Dated: April 8, 2010.
Yvette Roubideaux,
Deputy Director, Indian Health Service.

[FR Doc. 2010-8842 Filed 4-16-10; 8:45 am]

BILLING CODE P